DEPARTMENT OF COMMERCE

International Trade Administration

[A-570-827]

Certain Cased Pencils from the People's Republic of China: Extension of Time Limit for Preliminary Results of New Shipper Review

AGENCY: Import Administration, International Trade Administration, Department of Commerce.

EFFECTIVE DATE: July 21, 2003.

FOR FURTHER INFORMATION CONTACT: Magd Zalok or Paul Stolz, AD/CVD Enforcement, Office 4, Group II, Import Administration, International Trade Administration, U.S. Department of Commerce, 14th Street and Constitution Avenue, NW, Washington, DC 20230; telephone (202) 482-4162 or (202) 482-4474, respectively.

TIME LIMITS:

Statutory Time Limits

Section 751(a)(2)(B)(iv) of the Tariff Act of 1930,as amended (the Act) requires the Department of Commerce (the Department) to issue the preliminary results of a new shipper review within 180 days after the date on which the review is initiated. However, if the Department determines the issues are extraordinarily complicated, section 751(a)(2)(B)(iv) of the Act allows the Department to extend the deadline for the preliminary results to up to 300 days after the date on which the review is initiated.

Background

On February 4, 2003, the Department published a notice of initiation of the new shipper antidumping duty order on certain cased pencils from the People's Republic of China, covering the period December 1, 2001, through November 30, 2002. See Certain Cased Pencils From the People's Republic of China: Initiation of Antidumping New Shipper Review, 68 FR 5619 (February 4, 2003). The preliminary results are currently due no later than July 27, 2003.

Extension of Time Limit for Preliminary Results of Review

We determine that the issues in this case are extraordinarily complicated. Therefore, the Department is extending the time limit for completion of the preliminary results by 120 days until no later than November 24, 2003. See Decision Memorandum from Tom Futtner, Acting Office Director, Group II, Office IV, to Holly A. Kuga, Acting Deputy Assistant Secretary, Import Administration, dated concurrently with this notice, which is on file in the Central Records Unit, Room B-099 of the Department's main building. We intend to issue the final results no later than 90 days after the publication of the preliminary results notice.

This extension is in accordance with section 751(a)(2)(B) of the Act.

Dated: July 15, 2003.
Holly A. Kuga,
Acting Deputy Assistant Secretary for Import Administration, Group II.

[FR Doc. 03-18474 Filed 7-18-03; 8:45 am]

BILLING CODE 3510-DS-S